NATIONAL AERONAUTICS AND SPACE ADMINISTRATION

[Notice 13-005]

Notice of Intent To Grant Exclusive License

AGENCY: National Aeronautics and Space Administration.

ACTION: Notice of Intent to Grant Exclusive License.

SUMMARY: This notice is issued in accordance with 35 U.S.C. 209(e) and 37 CFR 404.7(a)(1)(i). NASA hereby gives notice of its intent to grant an exclusive license in the United States to practice the invention described and claimed in U.S. Patent Application Serial No. US 13/534,804, Alpha-Stream Convertor, LEW 18802-1; and U.S. Provisional Patent Application Serial No. US 61/677,116, Magnetostrictive Alternator—Low Cost, No Moving Part, High Efficiency, Oscillating Acoustic Pressure Wave to Electric Power Transducer, LEW 18939-1, to Nirvana Energy Systems, having its principal place of business in Portolo Valley, California. The fields of use may be limited to power systems for residential, commercial and transportation industries. The patent rights in these inventions as applicable have been assigned to the United States of America as represented by the Administrator of the National Aeronautics and Space Administration. The prospective exclusive license will comply with the terms and conditions of 35 U.S.C. 209 and 37 CFR 404.7.

DATES: The prospective exclusive license may be granted unless, within fifteen (15) days from the date of this published notice, NASA receives written objections including evidence and argument that establish that the grant of the license would not be consistent with the requirements of 35 U.S.C. 209 and 37 CFR 404.7. Competing applications completed and received by NASA within fifteen (15) days of the date of this published notice will also be treated as objections to the grant of the contemplated exclusive license. Objections submitted in response to this notice will not be made available to the public for inspection and, to the extent permitted by law, will not be released under the Freedom of Information Act, 5 U.S.C. 552.

ADDRESSES: Objections relating to the prospective license may be submitted to Intellectual Property Counsel, Office of Chief Counsel, MS 21-14, NASA Glenn Research Center, 21000 Brookpark Rd, Cleveland OH 44135. Phone (216) 433-5754. Facsimile (216) 433-6790.

FOR FURTHER INFORMATION CONTACT: Kaprice Harris, Intellectual Property Counsel, Office of Chief Counsel, Office of Chief Counsel, MS 21-14, NASA Glenn Research Center, 21000 Brookpark Rd, Cleveland OH 44135. Phone (216) 433-5754. Facsimile (216) 433-6790. Information about other NASA inventions available for licensing can be found online at https://technology.grc.nasa.gov.

Sumara M. Thompson-King,
Deputy General Counsel.

[FR Doc. 2013-04186 Filed 2-22-13; 8:45 am]

BILLING CODE 7510-13-P